DEPARTMENT OF HOUSING AND URBAN DEVELOPMENT

[Docket No. FR-5376-N-57]

Notice of Submission of Proposed Information Collection to OMB; Emergency Comment Request; HUD NEPA ARRA SECTION 1609 (c) Reporting

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

Grantees who receive ARRA funding projects must report on the status and progress of their projects and activities with respect to compliance with the National Environmental Policy Act (NEPA) requirements and documentation. HUD consolidates and transmits the information received from grantees to the Council on Environmental Quality and OMB for the Administration's reports to the House and Senate committees designated in the legislation. Two additional questions covering why the review has taken so long and when the review is likely to be completed will be asked in HUD's new electronic data collection system—Recovery Act Management System (RAMPS).

DATES: July 9, 2010.

ADDRESSES: Interested persons are invited to submit comments regarding this proposal. Comments must be received within three days from the date of this Notice. Comments should refer to the proposal by name/or OMB approval number and should be sent to: HUD Desk Officer, Office of Management and Budget, New Executive Office Building, Washington, DC 20503; e-mail: OIRA_Submission @omb.eop.gov; fax: (202) 395-5806.

FOR FURTHER INFORMATION CONTACT: Leroy McKinney, Jr., Departmental Reports Management Officer, QDAM, Department of Housing and Urban Development, 451 7th Street, SW., Room 4178, Washington, DC 20410-5000; telephone 202-402-8048, (this is not a toll-free number) or e-mail Mr. McKinney at Leroy.McKinneyJr@hud.gov for a copy of the proposed forms, or other available information. Copies of available documents submitted to OMB may be obtained from Mr. McKinney or @ http://www.reginfo.gov/public/do/PRAMain.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

Title of Proposed Notice: HUD NEPA ARRA SECTION 1609(c) Reporting.

OMB Approval Number: 2506-0187.

Agency Form Numbers: None.

Description of the Need for the Information and Its Proposed Use: Grantees who receive ARRA funding for projects must report on the status and progress of their projects and activities with respect to compliance with the National Environmental Policy Act (NEPA) requirements and documentation. HUD consolidates and transmits the information received from grantees to the Council on Environmental Quality and OMB for the Administration's reports to the House and Senate committees designated in the legislation.

Frequency of Submission: Quarterly.

The estimated number of respondents is 6000; the frequency of response is 4 per year; 2 hours per response, for burden hours of 12,000.

Total Estimated Burden Hours: 12,000.

Status: Revision of a currently approved collection.

Authority: The Paperwork Reduction Act of 1995, 44 U.S.C. Chapter 35, as amended.

Dated: June 29, 2010.
Leroy McKinney, Jr.,
Departmental Reports Management Officer, Office of the Chief Information Officer.

[FR Doc. 2010-16311 Filed 7-2-10; 8:45 am]

BILLING CODE 4210-67-P